DEPARTMENT OF COMMERCE

National Oceanic and Atmospheric Administration

50 CFR Part 223

RIN 0648-XA465

Intent To Prepare an Environmental Impact Statement for Sea Turtle Conservation and Recovery Actions and To Conduct Public Scoping Meetings

AGENCY: National Marine Fisheries Service (NMFS), National Oceanic and Atmospheric Administration (NOAA), Department of Commerce.

ACTION: Intent to prepare an environmental impact statement and conduct public scoping meetings.

SUMMARY: NMFS intends to prepare an environmental impact statement (EIS) and to conduct public scoping meetings to comply with the National Environmental Policy Act (NEPA) by assessing potential impacts resulting from the proposed implementation of new sea turtle regulatory requirements in the shrimp fishery of the southeastern United States. These requirements are proposed to protect threatened and endangered sea turtles in the western Atlantic Ocean and Gulf of Mexico from incidental capture, and would be implemented under the Endangered Species Act (ESA).

DATES: The public scoping period starts June 24, 2011 and will continue until August 23, 2011. NMFS will consider all written comments received or postmarked by August 8, 2011, in defining the scope of the EIS. Comments received or postmarked after that date will be considered to the extent practicable. Verbal comments will be accepted at the NMFS scoping meetings as specified below.

ADDRESSES: NMFS will hold five public scoping meetings to provide the public with an opportunity to present verbal comments on the scope of the EIS and to learn more about the proposed action from NMFS officials. The locations and times for the scoping meetings are listed in the SUPPLEMENTARY INFORMATION section of this document.

In addition to the five scoping meetings, NMFS will also submit a scoping document to the Gulf of Mexico and South Atlantic Fishery Management Councils, and the Atlantic and Gulf States Marine Fisheries Commissions.

Written comments on the scope of the EIS should be sent electronically via e-mail to Michael.Barnette@noaa.gov, or physically via U.S. mail to Michael Barnette, Southeast Regional Office, Protected Resources Division, 263 13th Ave., South, St. Petersburg, FL 33701-5505. Additional information, including a scoping document, can be found at: http://www.nmfs.noaa.gov/pr/species/turtles/regulations.htm. All comments, whether offered verbally in person at the scoping meetings or in writing as described above, will be considered.

FOR FURTHER INFORMATION CONTACT: Michael Barnette, NMFS, Southeast Regional Office, at the address above, or at (727) 824-5312.

SUPPLEMENTARY INFORMATION:

Background

All sea turtles that occur in U.S. waters are listed as either endangered or threatened under the ESA. The Kemp's ridley (Lepidochelys kempii), leatherback (Dermochelys coriacea), and hawksbill (Eretmochelys imbricata) are listed as endangered. Loggerhead (Caretta caretta) and green (Chelonia mydas) turtles are listed as threatened, except for breeding populations of green turtles in Florida and on the Pacific coast of Mexico, which are listed as endangered.

Sea turtles are incidentally taken, and some are killed, as a result of numerous activities, including fishery-related trawling activities in the Gulf of Mexico and along the Atlantic seaboard. Under the ESA and its implementing regulations, the taking of sea turtles is prohibited, with exceptions identified in 50 CFR 223.206(d), or according to the terms and conditions of a biological opinion issued under section 7 of the ESA, or according to an incidental take permit issued under section 10 of the ESA. The incidental taking of turtles during shrimp trawling is exempted from the taking prohibition of section 9 of the ESA if the conservation measures specified in the sea turtle conservation regulations (50 CFR 223.205) are followed. The regulations require most vessels defined as “shrimp trawlers” (50 CFR 222.102) operating in the southeastern United States (Atlantic or Gulf area, see 50 CFR 223.206) to have a NMFS-approved turtle excluder device (TED) installed in each net that is rigged for fishing to allow sea turtles to escape. TEDs incorporate an escape opening, usually covered by a webbing flap, which allows sea turtles to escape from trawl nets. TEDs currently approved by NMFS include single-grid hard TEDs and hooped hard TEDs conforming to a generic description, and one type of soft TED—the Parker soft TED (see 50 CFR 223.207). Most approved hard TEDs are described in the regulations (50 CFR 223.207(a)) according to generic criteria based upon certain parameters of TED design, configuration, and installation, including height and width dimensions of the TED opening through which the turtles escape. The regulations also describe additional hard TEDs' specific requirements. Skimmer trawls, pusher-head trawls, and wing nets (butterfly trawls), however, may employ alternative tow time restrictions in lieu of TEDs, pursuant to 50 CFR 223.206(d)(2)(ii)(A). The alternative tow time restrictions limit tow times to 55 minutes from April 1 through October 31, and 75 minutes from November 1 through March 31.

To be approved by NMFS, a TED design must be shown to be 97 percent effective in excluding sea turtles during testing based upon NMFS-approved scientific testing protocols (50 CFR 223.207(e)(1)). NMFS-approved testing protocols established to date include the “small turtle test” (55 FR 41092, October 9, 1990) and the “wild turtle test” (52 FR 24244, June 29, 1987). Additionally, NMFS has established a leatherback model testing protocol to evaluate a candidate TED's ability to exclude adult leatherback sea turtles (66 FR 24287, May 14, 2001). Because testing with live leatherbacks is impossible, NMFS obtained the carapace measurements of 15 nesting female leatherback turtles and used these data to construct an aluminum pipe-frame model of a leatherback turtle measuring 40 inches (101.6 cm) in width, 60 inches (152.4 cm) in length, and 21 inches (53.3 cm) in height. If the leatherback model and a diver with full scuba gear are able to pass through the escape opening of a candidate TED, that escape opening is judged to be capable of excluding adult leatherback sea turtles, as well as other large adult sea turtles.

Purpose of This Action

The National Environmental Policy Act (NEPA) requires Federal agencies to conduct an environmental analysis of their proposed actions to determine if the actions may significantly affect the quality of the human environment. NMFS is considering a variety of regulatory measures to reduce the bycatch of threatened and endangered sea turtles in the shrimp fishery of the southeastern United States in light of new concerns regarding the effectiveness of existing TED regulations in protecting sea turtles. This EIS will provide background information and specifically evaluate the alternatives and impacts associated with any considered management alternative. This rulemaking would be implemented pursuant to the ESA. NMFS is seeking public input on the scope of the required NEPA analysis, including the range of reasonable alternatives, associated significant impacts of any alternatives, and suitable mitigation measures.

Scope of the Action

The draft EIS is expected to identify and evaluate the relevant significant impacts and issues associated with implementing new sea turtle regulations for the shrimp fishery of the southeastern United States, in accordance with the Council on Environmental Quality's Regulations at 40 CFR parts 1500-1508 and NOAA's procedures for implementing NEPA found in NOAA Administrative Order (NAO) 216-6, dated May 20, 1999.

Alternatives

NMFS will evaluate a range of reasonable alternatives in the draft EIS to reduce sea turtle bycatch and mortality in the shrimp fishery of the southeastern United States. In addition to evaluating the status quo, NMFS will evaluate several other alternatives. These alternatives include but are not necessarily limited to: Requiring all skimmer trawls, pusher-head trawls, and wing nets (butterfly trawls) in both the Atlantic and Gulf areas to use TEDs; requiring all skimmer trawls, pusher-head trawls, and wing nets (butterfly trawls) in just the Gulf area to use TEDs; and time and area closures affecting all shrimp vessels. Potential new TED requirements would apply to vessels fishing in both state and Federal waters.

Public Comments

NMFS provides this notice to advise the public and other agencies of NMFS's intentions and to obtain suggestions and information on the scope of the significant issues to include in the EIS. Comments and suggestions are invited from all interested parties to ensure that the full range of issues related to this proposed action and all substantive issues are identified. NMFS requests that comments be as specific as possible. In particular, the agency requests information regarding the potential direct, indirect, and cumulative impacts on the human environment from the proposed action. The human environment is defined as “* * * the natural and physical environment and the relationship of people with that environment” (40 CFR 1508.14). In the context of the EIS, the human environment could include air quality, water quality, underwater noise levels, socioeconomic resources, fisheries, and environmental justice.

Comments concerning this environmental review process should be directed to NMFS (see ADDRESSES). All comments and material received, including names and addresses, will become part of the administrative record and may be released to the public.

Authority

The environmental review of the proposed action will be conducted under the authority and in accordance with the requirements of the National Environmental Policy Act of 1969, as amended (42 U.S.C. 4321 et seq.), National Environmental Policy Act Regulations (40 CFR parts 1500-1508), NOAA Administrative Order 216-6, other appropriate Federal laws and regulations, and policies and procedures of NOAA and NMFS for compliance with those regulations.

Locations and Times of Scoping Meetings

Scoping meetings will be held at the following locations:

1. Gray—Terrebonne Parish Public Library, North Terrebonne Branch, 4130 West Park Avenue, Gray, LA 70359.

2. Belle Chasse—Belle Chasse Community Center, 8398 Highway 23, Belle Chasse, LA 70037.

3. Biloxi—Mississippi Department of Marine Resources, 1141 Bayview Avenue, Biloxi, MS 39530.

4. Bayou La Batre—Bayou La Batre Community Center, 12745 Padgett Switch Road, Bayou La Batre, AL 36509.

5. Morehead City—Crystal Coast Civic Center, 3505 Arendell Street, Morehead City, NC 28557.

The meeting dates are:

1. July 12, 2011, 12 p.m. to 2 p.m., Gray, LA.

2. July 12, 2011, 6 p.m. to 8 p.m., Belle Chasse, LA.

3. July 13, 2011, 4 p.m. to 6 p.m., Biloxi, MS.

4. July 14, 2011, 12 p.m. to 2 p.m., Bayou La Batre, AL.

5. July 18, 2011, 2 p.m. to 4 p.m., Morehead City, NC.

Scoping Meetings Code of Conduct

The public is asked to follow the following code of conduct at the scoping meetings. At the beginning of each meeting, a representative of NMFS will explain the ground rules (e.g., alcohol is prohibited from the meeting room; attendees will be called to give their comments in the order in which they registered to speak; each attendee will have an equal amount of time to speak; and attendees may not interrupt one another). The NMFS representative will structure the meeting so that all attending members of the public will be able to comment, if they so choose, regardless of the controversial nature of the subject(s). Attendees are expected to respect the ground rules, and those that do not will be asked to leave the meeting.

Special Accommodations

The scoping meetings are physically accessible to people with disabilities. Requests for sign language interpretation or other auxiliary aids should be directed to the NOAA contact (see FOR FURTHER INFORMATION CONTACT) at least 7 days prior to the meeting.

Dated: June 20, 2011.
James H. Lecky,
Director, Office of Protected Resources, National Marine Fisheries Service.

[FR Doc. 2011-15898 Filed 6-23-11; 8:45 am]

BILLING CODE 3510-22-P